DEPARTMENT OF THE INTERIOR

Fish and Wildlife Service

50 CFR Part 17

RIN 1018-AG71

Endangered and Threatened Wildlife and Plants; Designating Critical Habitat for Plant Species From the Islands of Kauai and Niihau, Hawaii

AGENCY: Fish and Wildlife Service, Interior.

ACTION: Proposed rule; reopening of comment period and notice of availability of draft economic analysis.

SUMMARY: We, the U.S. Fish and Wildlife Service, announce the availability of the draft economic analysis for the proposed designations of critical habitat for plant species from the islands of Kauai and Niihau, Hawaii. We are also providing notice of the reopening of the comment period for the proposal to determine prudency and to designate critical habitat for these plants to allow peer reviewers and all interested parties to comment simultaneously on the proposed rule and the associated draft economic analysis. Comments previously submitted need not be resubmitted as they will be incorporated into the public record as part of this reopened comment period and will be fully considered in the final rule.

DATES: We will accept public comments until June 27, 2002.

ADDRESSES: Written comments and information should be submitted to Field Supervisor, U.S. Fish and Wildlife Service, Pacific Islands Office, 300 Ala Moana Blvd., P.O. Box 50088, Honolulu, HI 96850-0001. For further instructions on commenting, refer to Public Comments Solicited section of this notice.

FOR FURTHER INFORMATION CONTACT: Paul Henson, Field Supervisor, Pacific Islands Office, at the above address (telephone: 808/541-3441; facsimile: 808/541-3470).

SUPPLEMENTARY INFORMATION:

Background

A total of 95 plant species historically found on Kauai and Niihau were listed as endangered or threatened species under the Endangered Species Act of 1973, as amended (Act), between 1991 and 1996. Fifty-seven of these species are endemic to the islands of Kauai and/or Niihau, while 38 species are reported from one or more other islands, as well as Kauai, and/or Niihau.

In other published proposals we proposed that critical habitat was prudent for 90 of the 95 species from the islands of Kauai and Niihau because the potential benefits of designating critical habitat essential for the conservation of these species outweigh the risks of designation (65 FR 66808, 65 FR 79192, 65 FR 82086, 65 FR 83158, 67 FR 3940, 67 FR 9806, 67 FR 15856, 67 FR 16492). In addition, we proposed that critical habitat designation was not prudent for three species of loulu palm (Pritchardia aylmer-robinsonii, P. napaliensis, and P. viscosa) because it would likely increase the threats from vandalism or collection of these species on Kauai and Niihau, and that critical habitat designation was not prudent for Acaena exigua and Melicope quadrangularis because they have not been seen recently in the wild, and no viable genetic material is known to exist (65 FR 66808, 65 FR 79192, 67 FR 3940, 67 FR 15856).

In the January 28, 2002, revised prudency and critical habitat proposal (67 FR 3940), we proposed critical habitat for 83 of the 95 species from the islands of Kauai and Niihau. Critical habitat was not proposed for seven of the 95 species (Achyranthes mutica, Hibiscus brackenridgei, Isodendrion pyrifolium, Phlegmariurus mannii, Silene lanceolata, Solanum incompletum, and Vigna o-wahuensis) which no longer occur on the islands of Kauai or Niihau, and for which we were unable to identify any habitat that is essential to their conservation on the islands of Kauai or Niihau. Critical habitat was not proposed for three species of loulu palm nor for Melicope quadrangularis and Acaena exigua for the reasons given above.

We have proposed to designate a total of 15 critical habitat units on Kauai and one unit on Niihau covering approximately 40,147 hectares (ha) (99,206 acres (ac)) on Kauai and 282 ha (697 ac) on Niihau.

Critical habitat receives protection from destruction or adverse modification through required consultation under section 7 of the Act (16 U.S.C. 1531 et seq.) with regard to actions carried out, funded, or authorized by a Federal agency. Section 4(b)(2) of the Act requires that the Secretary shall designate or revise critical habitat based upon the best scientific and commercial data available, and after taking into consideration the economic impact of specifying any particular area as critical habitat. Based upon the previously published proposal to designate critical habitat for plant species from Kauai and Niihau, and comments received during the previous comment period, we have prepared a draft economic analysis of the proposed critical habitat designations. The draft economic analysis is available on the Internet and mailing address in the Public Comments Solicited section below.

Public Comments Solicited

We will accept written comments and information during this re-opened comment period. If you wish to comment, you may submit your comments and materials concerning this proposal by any of several methods:

(1) You may submit written comments and information to the Field Supervisor, U.S. Fish and Wildlife Service, Pacific Islands Office, 300 Ala Moana Blvd., P.O. Box 50088, Honolulu, HI 96850-0001.

(2) You may send comments by electronic mail (e-mail) to: kani_crithab@r1.fws.gov. If you submit comments by e-mail, please submit them as an ASCII file and avoid the use of special characters and any form of encryption. Please also include “Attn: RIN 1018-AG71” and your name and return address in your e-mail message. If you do not receive a confirmation from the system that we have received your e-mail message, contact us directly by calling our Honolulu Fish and Wildlife Office at telephone number 808/541-3441.

(3) You may hand-deliver comments to our Honolulu Fish and Wildlife Office at the address given above.

Comments and materials received, as well as supporting documentation used in preparation of the proposal to designate critical habitat, will be available for inspection, by appointment, during normal business hours at the address under (1) above. Copies of the draft economic analysis are available on the Internet at http://pacificislands.fws.gov or by request from the Field Supervisor at the address and phone number under (1 and 2) above.

Author(s)

The primary authors of this notice are Marigold Zoll and Christa Russell (see ADDRESSES section).

Authority

The authority for this action is the Endangered Species Act of 1973 (16 U.S.C. 1531 et seq.).

Dated: May 17, 2002.
Craig Manson,
Assistant Secretary for Fish and Wildlife and Parks.

[FR Doc. 02-13189 Filed 5-24-02; 8:45 am]

BILLING CODE 4310-55-P